DEPARTMENT OF HEALTH AND HUMAN SERVICES

National Institutes of Health

National Institute on Drug Abuse; Amended Notice of Meeting

Notice is hereby given of a change in the meeting of the Board of Scientific Counselors, NIDA, May 7, 2020, 8:00 a.m. to May 8, 2020, 3:15 p.m., Intramural Research Program, Biomedical Research Center, Johns Hopkins Bayview Campus, 251 Bayview Boulevard, Room BRC 03C219, Baltimore, MD 21224, which was published in the Federal Register on March 13, 2020, 85 FR 14686.

This notice is being amended to change the meeting location from the Intramural Research Program, Biomedical Research Center, Johns Hopkins Bayview Campus, 251 Bayview Boulevard, Room BRC 03C219, Baltimore, MD 21224 to a virtual meeting. The meeting is closed to the public.

Dated: April 13, 2020.
Tyeshia M. Roberson,
Program Analyst, Office of Federal Advisory Committee Policy.

[FR Doc. 2020-08198 Filed 4-17-20; 8:45 am]

BILLING CODE 4140-01-P